ENVIRONMENTAL PROTECTION AGENCY

[FRL-7129-8]

Designation and Support for Local Resource Centers To Assist Public Entities Develop Environmental Management Systems (EMS)

AGENCY: Environmental Protection Agency.

ACTION: Notice; announcement of a program to assist not-for-profit organizations that wish to work with public entities that wish to adopt environmental management systems (EMS); request for applications.

SUMMARY: The Environmental Protection Agency (EPA) announces its intention to select and provide technical assistance for up to five existing not-for-profit organizations in order to increase their capacity to assist public entities wishing to adopt environmental management systems (EMS). The assistance provided to these organizations will include helping with developing business plans, providing relevant EMS materials to facilitate each organization's existing EMS assistance activities, train-the-trainer work sessions on ways to address the needs of public agencies, and other marketing services. Each organization selected will also gain increased visibility, attention, and recognition of the key role they can play in meeting the growing needs of public agencies wishing to adopt EMSs.

This program is a continuation of two highly successful projects led by U.S. EPA to directly support various public agencies as they develop EMSs. The program is designed to build on these efforts by increasing the capacity of existing EMS service providers to meet the needs of public agencies. This project is being led by EPA's Office of Water, in conjunction with EPA's Office of Air and Radiation and Office of Compliance.

DATES: Letters of Application from interested organizations should be submitted no later than March 15, 2002.

ADDRESSES: Letters of Application should be submitted to James Horne, U.S. Environmental Protection Agency, Office of Wastewater Management, 1200 Pennsylvania Avenue, NW, Washington, DC, Mail Code 4201M, (202) 564-0571 and Craig Ruberti, Global Environment and Technology Foundation, 7010 Little River Turnpike, Suite 460, Annandale, Virginia, 22003.

FOR FURTHER INFORMATION CONTACT: James Horne at (202) 564-0571.

SUPPLEMENTARY INFORMATION:

I. Background

Public entities manage complex large-scale problems of operating and maintaining physical plants; power, wastewater, water, and roadway systems; and managing solid and hazardous waste. As the front line implementers of environmental programs, they are responsible for the health and safety of hundreds millions of citizens. Faced with shrinking resources and aging infrastructure, public entities must manage their operations in a more efficient manner, at lower cost, and with less environmental impact. Environmental management systems (EMS) are an important emerging tool to help public entities do this.

EMSs follow Shewart and Deming's “plan, do, check, and act” systems methodology and can be implemented by organizations of all sizes and types. They provide a set of problem identification and problem-solving tools that can be implemented in an organization in many different ways, depending on its activities and needs. Based on the organization's core values, business goals, and environmental commitments, employees examine their environmental footprint and the procedures they use to manage environmental issues. They incorporate strong operational controls and environmental responsibilities into existing job descriptions and work instructions. They set measurable objectives and targets, monitor, measure, and evaluate progress, “find and fix” environmental problems as they occur, and provide top management with a feedback loop to assess progress and make appropriate changes to the management system. The various elements of the EMS work together to provide opportunities to continually improve management of environmental impacts both in regulated areas and in areas that are not regulated (e.g., odor, water or electricity use, and growth management).

Key elements of the EMS include:

• An environmental policy statement endorsed and actively promoted by senior management;

• A planning process that identifies the organization's environmental impacts and integrates their management into the organization's regular business and operations decisions;

• An organizational structure that places environmental responsibilities directly with employees in operational functions that deal with significant environmental impacts;

• An implementation process that stresses training, communication, operational controls, and reaching measurable goals—all oriented toward reducing risks of significant environmental impacts and continually improving environmental management;

• Measurement and auditing procedures that focus on “finding and fixing” problems and reducing the chances of their recurring;

• Periodic top management review of the EMS to ensure continual improvement.

Since 1996, the most commonly used framework for an EMS is the ISO 14001 Environmental Management Standard developed by the International Organization for Standardization (ISO). The ISO was established in 1947 with the mission of developing voluntary technical standards to promote international trade in goods and services.

For the last several years the U. S. Environmental Protection Agency (US EPA) has been promoting the adoption of Environmental Management Systems (EMS) to help public entities, particularly local governments, improve their environmental performance beyond compliance, prevent pollution, promote greater environmental stewardship across the workforce, and improve their overall efficiency.

The US EPA's Office of Water has played a critical leadership role in bringing EMS capacity to local governments. This leadership has continued and expanded to include other headquarters and regional offices. Since 1997, in partnership with the Global Environment & Technology Foundation (GETF), the US EPA has established two EMS initiatives to help local governments test the applicability and benefits of an EMS on environmental performance, compliance, pollution prevention, and stakeholder involvement in government operations. In all, 23 local governments have participated in developing and implementing their own EMSs through these two initiatives.

Using a four-phased implementation strategy over a two-year period, each participating public entity has received EMS training, coaching, and technical assistance, as well as EMS implementation materials and toolkits specially designed for the public sector. Five intensive week long training sessions, individual bi-weekly phone consultations, and on-site visits provided additional implementation guidance. Monthly “all-hands” calls allowed participants to share their experiences and keys to success and engage in shared problem solving opportunities. Information and data were collected about the benefits, barriers, and keys to success and resource requirements of EMS implementation in a variety of public sector organizations. Participants experienced convincing environmental and economic benefits over the first two-year project period in the following areas, as evidenced by the statements below:

• Environmental Compliance and Performance: “With regard to environmental compliance, we have a better understanding of our legal requirements. We have better-trained employees whose competence in their work areas is critical to the environment. We expect that our EMS will increase our ability to stay in compliance.”—Tim Hall, Superintendent, Massachusetts Corrections Institute, Norfolk, MA.

• Recycling: “Building on the momentum generated early on in the program, we moved forward with a recycling program for lab waste that has diverted 18,000 lbs of waste from the landfill in a three-month period.—Oscar Pancorbo, Director, Wall Experiment Station Laboratory, Massachusetts Department of Environmental Protection, Lawrence, MA.

• Water Conservation: “In our efforts to conserve potable water use in our operations we realized we have 1 million gallons of rainwater available in our sedimentation basin per large storm event. By using this water for dust control and soil compaction we estimate conserving about 800,000 gallons of potable water and $1,500 in water fees on an annual basis.—Mark zu Hone, EMS Project Manager, Department of Environmental Services, Refuse Disposal Division, City of San Diego, CA.

• Efficient Regulatory Tracking: “Implementing an EMS enables us to embark on a huge project we always knew we needed to do but could never find the time for—to consciously identify all our regulatory requirements and formally designate responsibility for compliance and updates. We always felt we had a handle on this, but our procedure to identify our legal requirements now relieves worries that we might have missed something.—Pam Badger, Special Waste Supervisor, King County Solid Waste Division, Seattle, WA.

• Resource Conservation: “In light of this summer's expected electricity shortages and water rationing we have set objectives and targets that will focus on resource conservation for both our bus and rail maintenance operations. Through these conservation initiatives we plan to save about 10% of our budgeted utilities which could result in $85,000—$90,000.”—Kevin Considine, Environmental Engineer, Tri-County Metropolitan Transportation District of Oregon, Portland, OR.

• Operational Efficiency: “Using the process flow diagrams (PFDs) from the aspects investigation phase of the EMS, the Safety Committee has begun preparation of job hazard analyses (JHA) for approximately 200 work activities at the Bureau. It is estimated that the use of the PFDs will save approximately 300 hours of JHA development time—amounting to approximately $5,000 in savings.”—Fred Murphy, Special Programs Manager, New Hampshire Department of Transportation, Concord, NH.

• Air Quality: “The Port has been significantly involved in the development and implementation of the Houston One-Hour Ozone State Implementation Plan (SIP). To fulfill our role in this effort we have set a target to reduce our NOX emissions by 320 tons per year, which goes well beyond EPA's cost effectiveness guidelines. The PHA has been testing innovative technologies to reduce emissions and has committed to implementing these technologies through our EMS efforts to achieve this goal.”—Laura Fiffick, Environmental Affairs Manager, Port of Houston Authority, Houston, TX.

More information about these two projects can be found at www.getf.org/projects/muni.cfm.

II. The National Public Entity EMS Resource Center—The Peer Center

The two EMS initiatives described above have helped to demonstrate the relevance of EMSs in the public sector and established a solid basis for expanding EMS adoption for public agencies, especially local governments. The strong enthusiasm and tangible environmental results with EMS through these initiatives suggest substantial long-term benefits from EMS implementation and ensure the parallel development of sustainable management practices in both the private and public sectors. Public entity EMS implementation has sparked interest from government leaders around the world. To take advantage of this momentum US EPA and GETF have launched the National Public Entity Environmental Management System Resource Center—the National PEER Center.

The National PEER Center is a virtual and live clearinghouse of information and people whose mission is to promote the adoption of EMSs in public entities, particularly local governments.

The PEER Center's goals are three-fold:

• To promote the understanding and adoption of EMSs by public entities

• To facilitate peer-to-peer exchange of information and experiences and build awareness of EMSs as a tool to improve environmental performance

• To build regional EMS competence and technical assistance capacity through the creation of Local Resource Centers.

The National PEER Center Web site is currently in place (www.peercenter.net) and links users to a national database of key resources such as sample EMS documentation, local and state EMS programs in place, EMS service providers, detailed descriptions of the EMS implementation phases, trainers, mentors and course providers, as well as training materials, web links, contact information, and case studies. The PEER Center serves to demystify the elements of environmental management systems and programs. It will deliver field-tested EMS tools, training, mentoring, and problem solving strategies on-line to help public entities systematically manage both their regulated and non-regulated environmental impacts.

III. Local Resource Centers

Critical to the effectiveness and success of the PEER Center will be the establishment of Local Resource Centers (LRCs) to advance the use of EMS in public entities. Building on individual EMS skills and competencies, and leveraging the successes and skills of the other LRCs and the National PEER Center, each LRC will serve as a high-quality EMS resource center for the public entities in their area, facilitating information transfer, providing training, and government-to-government mentoring in order to maximize public entities' time and resource investment in EMS implementation. The joint efforts of the National PEER Center and the LRCs will reach many more public entities, particularly municipalities and increase the ability of existing EMS service providers to advance the use of EMSs by agencies in their areas.

Although no direct financial assistance will be provided, the PEER Center staff will act as the initial support mechanism for the Local Resource Centers, providing business-planning assistance, field-tested training techniques and materials, implementation strategies, and assistance with outreach plans and marketing materials. In areas where Local Resource Centers do not exist, the PEER Center staff will work with other local entities in that area that have implemented EMSs and help provide information to agencies interested in learning more about EMSs and possibly developing them for their operations.

Information transfer between the PEER Center, the LRCs, and various public entities implementing EMSs will ensure access to the most current tools, keys to success, and lessons learned.

Activities that the LRCs selected under this program will be expected to undertake include, but are not limited to:

• Leveraging their existing EMS expertise to provide training, technical assistance, tools and materials that will facilitate EMS implementation in the public sector;

• Maintaining a database of local/regional EMS service providers, public entities who have implemented EMS, including but not limited to those that are ISO 14001 certified;

• Using their data, information, resources and key contacts to encourage EMS information transfer and facilitate government-to-government mentoring;

• Leading regular and frequent outreach activities to increase awareness and understanding of EMS applicability among public entities in their local/regional area;

• Collecting data and information and preparing case studies about EMS implementation in public entities and assisting in the dissemination of this information across public organizations;

• Facilitating information transfer between the PEER Center and other Local Resource Centers to ensure access to the most current data, information, tools, keys to success, and lessons learned; and

• Facilitating EMS workshops and conferences in their local/regional area

If at all possible, EPA intends to select existing not-for-profit organizations that are already providing some degree of EMS services in their respective areas. The Local Resource Centers will offer a menu of EMS services including—EMS training, technical expertise, field-tested tools, information, speakers/mentors, workshops and conferences, outreach, and EMS implementation assistance.

IV. Benefits of Becoming a Local Resource Center

Each Local Resource Center will receive, at no cost, extensive start-up support, a full catalogue of EMS implementation tools from the Global Environment & Technology Foundation (GETF) and materials that have already been field-tested and used in the public sector, including:

• Assistance in developing a business plan, and business development materials.

• An extensive suite of field-tested, high-quality and successful materials for public entities: training techniques, implementation strategies, document samples, outreach and presentation toolkits.

• Regular train-the-trainer work sessions on EMS implementation in public sector organizations with other LRCs and national partners.

• An extensive database of national mentors and experts with hands-on experience to assist in local/regional EMS outreach and implementation.

• Support services and mentoring from existing public entities that are implementing an EMS.

• Assistance with marketing services and opportunities.

• National attention, visibility, and partnership opportunities from the PEER Center and its partners and stakeholders.

In addition to the assistance provided by the National Peer Center as described above, each Local Resource Center will be authorized to use the National PEER Center Logo endorsing their selection to provide high quality EMS services to public entities as part of an EPA sponsored competitive process.

V. Criteria for Selecting the Local Resource Centers

Up to five organizations will be selected to serve as Local EMS Resource Centers (LRCs) based on the following criteria:

Business Experience:

• Well-established delivery mechanism and client base for providing EMS services.

• An excellent reputation for providing high-quality services.

• Good training/facilitation capacity and experience.

• Ability to market services and sustain a business model.

• A not-for-profit organization.

EMS Expertise:

• Excellent first hand experience, knowledge and understanding of EMS development and implementation, using the basic Plan-Do-Check-Act approach.

• Documented success in providing EMS services, but not necessarily to public entities.

Capacity:

• Strong Web literacy and functionality.

• Adequate staffing for providing range of services: marketing, training, outreach, information transfer, mentoring, speaking.

• Willingness to proactively seek out and mobilize other EMS partners in the region.

• Potential to bring partners who can leverage resources.

Organizational Commitment:

• Organizational commitment and top management support.

• Organizational resources for start up activities.

• Willingness to share data and information with other LRCs and PEER Center.

Interested organizations are invited to submit letters of application no later than March 15, 2002. Please address each of the following issues in your correspondence:

1. Briefly describe your organization's background and structure, including number of years in operation, current staffing levels and management structure. Briefly outline the range of services you provide, the typical recipients of these services and how you currently advertise/market your services. Please submit samples of communication and outreach materials you currently use. Please describe how your top management will participate in your LRC activities.

2. What types of EMS training sessions and/ or workshops do you currently develop and facilitate? Who in your organization provides/supports the training function?

3. Briefly describe your first-hand experience with EMS implementation, training, and mentoring. Please describe your sense of the demand by public entities for EMS services in your area. What type of EMS services do you currently provide and in what sector? Who in your organization provides EMS services and briefly outline their qualifications and experience in directly assisting organizations to develop and implement an EMS? How will your organization accommodate the demand on its resources for additional EMS work? Please provide contact information for two organizations as references for your EMS services.

4. Please describe your organization's Web and computer literacy and functionality.

5. To what local/regional/national organizations does your organization belong? Please describe the leadership functions that any of your employees have provided. How might your organization conduct outreach with these organizations about EMS benefit for public entities?

6.Why does your organization want to become a Local Resource Center?

US EPA and the National PEER Center will solicit applicants for Local Resource Centers through March 15, 2002 using this Federal Register Notice and other communication and outreach vehicles.

Each applying organization will receive a PEER Center information packet following receipt of their application. Materials will include:

• Additional details and information about the National PEER Center and the Local Resource Centers.

• A Memorandum of Understanding that each selectee will sign with Global Environment & Technology Foundation (GETF), and that outlines the relationship and obligations of the PEER Center and the Local Resource Centers.

• The selection criteria used in the interview process.

• Information about the two US EPA EMS programs for public entities.

Following the receipt of these letters, PEER Center staff will schedule interviews with each applicant's management and appropriate staff at a mutually convenient time from March 17-April 12, 2002. Results of these evaluations will be presented to an EPA selection committee who will name the Local Resource Centers no later than May 3, 2002. At that time, PEER Center staff will begin work with each Local Resource Center to develop business plans, materials, processes, marketing strategies, information transfer, data collection, etc.

Organizations who are interested in becoming Local Resource Centers are invited to submit letters of application no later than March 15, 2002, as described above to:

Jim Horne, Office of Wastewater Management, U.S. Environmental Protection Agency (EPA), 1200 Pennsylvania Avenue, NW Mail Code 4201M, Washington, DC 20460, Phone: (202) 564-0571, FAX: (202) 501-2338, e-mail: horne.james@epa.gov

and

Craig Ruberti, Global Environment and Technology Foundation (GETF), 7010 Little River Turnpike, Suite 460, Annandale, Virginia 22003, Phone: (703) 750-6401, FAX: (703-750-6506 e-mail: cruberti@getf.org

Dated: January 11, 2002.
Michael B. Cook,
Director, Office of Wastewater Management.

[FR Doc. 02-1346 Filed 1-17-02; 8:45 am]

BILLING CODE 6560-50-P